DEPARTMENT OF LABOR

Employment and Training Administration

TA-W-85,954, Baker Hughes Incorporated Including On-Site Leased Workers From Kelly Services, Claremore, Oklahoma; TA-W-85,954A, Baker Hughes Incorporated, Broken Arrow, Oklahoma; TA-W-85,954B, Baker Hughes Incorporated, Hampton, Arkansas; Amended Certification Regarding Eligibility To Apply for Worker Adjustment Assistance

In accordance with Section 223 of the Trade Act of 1974, as amended (“Act”), 19 U.S.C. 2273, the Department of Labor issued a Certification of Eligibility to Apply for Worker Adjustment Assistance on July 29, 2015, applicable to workers of Baker Hughes Incorporated, Claremore, Oklahoma (TA-W-85,954), Baker Hughes Incorporated, Broken Arrow, Oklahoma (TA-W-85,954A), and Baker Hughes Incorporated, Hampton, Arkansas (TA-W-85,954B). The Department's notice of determination was published in the Federal Register on September 22, 2015 (80 FR 57220).

At the request of a worker, the Department reviewed the certification for workers of the subject firm. The workers were engaged in activities related to the production of oil field tools (pumps, motors, seals, safety valves, and composite plugs).

The company reports that workers leased from Kelly Services were employed on-site at the Claremore, Oklahoma location of Baker Hughes Incorporated. The Department has determined that these workers were sufficiently under the control of the subject firm to be considered leased workers.

Based on these findings, the Department is amending this certification to include workers leased from Kelly Services working on-site at Claremore, Oklahoma location of Baker Hughes Incorporated.

The amended notice applicable to TA-W-85,954 is hereby issued as follows:

“All workers of Baker Hughes Incorporated, including on-site leased workers from Kelly Services, Claremore, Oklahoma (TA-W-85,954), Baker Hughes Incorporated, Broken Arrow, Oklahoma (TA-W-85,954A), and Baker Hughes Incorporated, Hampton, Arkansas (TA-W-85,954B), who became totally or partially separated from employment on or after April 22, 2014 through July 29, 2017, and all workers in the group threatened with total or partial separation from employment on the date of certification through two years from the date of certification, are eligible to apply for adjustment assistance under Chapter 2 of Title II of the Trade Act of 1974, as amended.”

Signed in Washington, DC, this 19th day of April, 2016.
Hope D. Kinglock,
Certifying Officer, Office of Trade Adjustment Assistance.

[FR Doc. 2016-12093 Filed 5-23-16; 8:45 am]

BILLING CODE P